FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 200063-022.

Title: NYSA-ILA Tonnage Assessment Agreement.

Parties: New York Shipping Association, Inc.

International Longshoremen's Association, AFL-CIO.

Synopsis: The amendment reduces certain assessment rates in the Puerto Rican trade.

Agreement No.: 201068-002.

Title: Marine Terminal Operators of New Orleans Discussion Agreement.

Parties: Ceres Gulf, Inc.

Empire Stevedoring (Louisiana), Inc.

P&O Ports Louisiana, Inc.

Stevedoring Services of America, Inc.

Universal Maritime Service Corp.

Synopsis: The amendment adds Coastal Cargo Co., Inc., and Pacorini USA, Inc., as agreement parties.

Agreement No.: 201110-003.

Title: Oakland/Hanjin Non-Exclusive Preferential Assignment Agreement.

Parties: Port of Oakland

Hanjin Shipping Company, Ltd.

Synopsis: The amendment provides for, among other things, the purchase of certain equipment by the port, further modifications to facility improvements, and the fixing of the “Term Commencement Date” of the basic agreement.

By Order of the Federal Maritime Commission.
Dated: August 24, 2001.
Bryant L. VanBrakle,
Secretary.

[FR Doc. 01-21864 Filed 8-29-01; 8:45 am]

BILLING CODE 6730-01-P